FEDERAL COMMUNICATIONS COMMISSION

47 CFR Part 10

[PS Docket Nos. 15-94, 15-91; FCC 23-88; FR ID 189576]

Emergency Alert System; Wireless Emergency Alerts

AGENCY: Federal Communications Commission.

ACTION: Final rule.

SUMMARY: In this document, the Federal Communications Commission (Commission) adopts rules for commercial mobile service providers that have elected to participate in the Wireless Emergency Alert system (WEA) (Participating CMS Providers) to support WEA messages in the 13 most commonly spoken languages in the U.S. as well as English and American Sign Language. Participating CMS Providers are to support this expanded multilingual alerting by enabling mobile devices to display message templates that will be pre-installed and stored on the mobile device. The Commission also directs its Public Safety and Homeland Security Bureau to seek comment on various implementation details of the multilingual alerting requirements and future expansion to additional languages. In addition, to help personalize emergency alerts, the Commission requires participating wireless providers to support the inclusion of maps in WEA messages that show the alert recipient's location relative to the geographic area where the emergency is occurring, and establishes a Commission-hosted database to provide the public with easy-to-access information on WEA availability. Wireless providers will be required to supply information on whether they participate in WEA and, if so, the extent of WEA availability in their service area and on the mobile devices that they sell. Last, to support more effective WEA performance and public awareness, the amended rules enable alerting authorities to send two local WEA tests per year that the public receives by default, provided that the alerting authority takes steps to ensure that the public is aware that the test is, in fact, only a test.

DATES: Effective December 15, 2026, except for the amendments to 47 CFR 10.210(b), (c), and (d)), 10.350(d), 10.480(a) and (b), and 10.500(e), which are delayed indefinitely. The Federal Communications Commission will announce the effective dates of the delayed amendments by publishing documents in the Federal Register.

FOR FURTHER INFORMATION CONTACT: For further information regarding this Further Notice, please contact Michael Antonino, Cybersecurity and Communications Reliability Division, Public Safety and Homeland Security Bureau, (202) 418-7965, or by email to michael.antonino@fcc.gov. For additional information concerning the Paperwork Reduction Act information collection requirements contained in this document, send an email to PRA@fcc.gov or contact Nicole Ongele, Office of Managing Director, Performance and Program Management, 202-418-2991, or by email to PRA@fcc.gov.

SUPPLEMENTARY INFORMATION: This is a summary of the Commission's Third Report and Order, FCC 23-88, adopted on October 19, 2023, and released on October 20, 2023. The full text of this document is available by downloading the text from the Commission's website at: https://docs.fcc.gov/public/attachments/FCC-23-88A1.pdf.

This Third Report and Order addresses Wireless Emergency Alerts (WEA). Though this Third Report and Order is not specifically changing our Part 11 rules regarding the Emergency Alert System (EAS), the document references both the EAS and WEA dockets and we have historically sought comment on WEA in both dockets, including the underlying FNPRM and NPRM to which this Third Report and Order connects. The rules adopted here amend only Part 10 concerning WEA. We will consider improvements for the Emergency Alert System (EAS)—to include support for multilingual EAS—in a forthcoming item that will amend Part 11 of our rules.

Final Paperwork Reduction Act of 1995 Analysis

This document contains new and modified information collection requirements subject to the Paperwork Reduction Act of 1995 (PRA), Public Law 104-13. It will be submitted to the Office of Management and Budget (OMB) for review under Section 3507(d) of the PRA. OMB, the general public, and other Federal agencies will be invited to comment on the new or modified information collection requirements contained in this proceeding. In addition, we note that pursuant to the Small Business Paperwork Relief Act of 2002, Public Law 107-198, see 44 U.S.C. 3506(c)(4), we previously sought specific comment on how the Commission might further reduce the information collection burden for small business concerns with fewer than 25 employees.

Synopsis

I. Third Report and Order

1. It is essential that the public be able to receive in accessible language and format WEA Messages that are intended for them. It is also important that those who initiate these messages and those who rely upon them can access information about WEA's availability and performance. Through the requirements the Commission adopts in the Third Report and Order, the Commission intends to help the millions of people with access and functional needs, including people who primarily speak a language other than English or Spanish and those with disabilities, better understand and take protective actions in response to WEA messages; improve people's ability to understand and quickly take protective actions in response to WEAs that they receive; and provide the nation's alerting authorities with the information they need to plan for resilient communications during disasters and use WEA with confidence and foreknowledge. These requirements will meaningfully improve WEA. The Commission also recognizes that even more can be done and to that end, will consider improvements for the Emergency Alert System (EAS)—to include support for multilingual EAS—in a forthcoming item.

A. Making WEA Available to Millions of People Who Primarily Speak a Language Other Than English or Spanish and Accessible to People With Disabilities

2. To expand WEA's reach to millions of people who primarily speak a language other than English or Spanish who may not be able to understand the potentially life-saving alerts they receive, the Commission requires Participating CMS Providers to support multilingual WEA through the use of Alert Messages translated into the most common languages (referred to in this item as “templates”). These templates would be pre-installed and stored on the mobile device itself. As described below, where an alerting authority chooses to send a multilingual Alert Message, the WEA-capable mobile device must be able to extract and display the relevant template in the subscriber's default language, if available. See, 47 CFR 10.500(e). If the default language for a WEA-capable mobile device is set to a language that is not among those supported by templates, the WEA-capable device must present the English-language version of the Alert Message.

3. The weight of the record supports expanding WEA's language capabilities through the use of templates. Some alerting authorities are already using templates to deliver alerts in multiple languages. The approach the Commission adopts in the Third Report and Order improves upon other available methods of multilingual WEA messages (e.g., through the use of an embedded reference that takes the recipient to a website with content in multiple languages), because the multilingual Alert Message will be displayed to the user by default.

4. The implementation of multilingual WEA through the use of templates, as described in the Third Report and Order, integrates two features that are available today. First, it requires the establishment of templates. Letters from some of the largest Participating CMS Providers indicate that implementing template-based WEAs in multiple languages is feasible. Second, it requires templates to be stored in the device and triggered upon receipt of a WEA. As the Commission noted in the 2023 WEA FNPRM, Wireless Emergency Alerts, Amendments to Part 11 of the Commission's Rules Regarding the Emergency Alert System, PS Docket No. 15-91, 15-94, Further Notice of Proposed Rulemaking, FCC 23-30 (rel. Apr. 21, 2023) (2023 WEA FNPRM), through a partnership between ShakeAlert and Google, Android mobile devices are already able to display alert content pre-installed on mobile devices upon receipt of a signal from a network of seismic sensors. This application demonstrates how a template can be “activated” by a data element included in Alert Message metadata, which would prompt the mobile device to display the relevant template alert message in the mobile device's default language chosen by the consumer.

5. Promoting multilingual WEA through templates will enhance the flexibility that alerting authorities have in communicating with their communities. There may be times where the benefit of delivering an Alert Message to the public as soon as possible outweighs the need for additional context that freeform text could provide. The Commission does not require alerting authorities to use templates, but require CMS Providers to support them should alerting authorities wish to use them at their discretion. The Commission defers to alerting authorities on how best to utilize these new WEA functions for their communities.

6. The Commission further declines to require Participating CMS Providers to implement multilingual WEA using machine translation at this time. The Commission will continue to examine the feasibility of machine translation technologies and its application in connection with multilingual alerting.

7. As a baseline, the Commission requires Participating CMS Providers' WEA-capable mobile devices support templates in the 13 most commonly spoken languages in the United States, based on U.S. Census data, in addition to English templates. These languages include: Spanish, Chinese, Tagalog, Vietnamese, Arabic, French, Korean, Russian, Haitian Creole, German, Hindi, Portuguese, and Italian. This action is consistent with the request of numerous members of Congress who wrote a letter urging the Commission to make WEA capable of multilingual alerting, noting that, without sending WEAs in languages beyond English and Spanish, “[l]ives are put at stake without this crucial information about impending inclement weather events, stay-at-home orders, AMBER alerts, and other emergencies.” The Commission agrees that that the 13 languages for which we require support today would help make WEA content available to people who primarily speak a language other than English or Spanish for the first time, and that this change will most directly benefit those who have historically been underserved by WEA. The Commission believes that this action will mitigate a risk observed by researchers that individuals who primarily speak a language other than English or Spanish may not understand evacuation notices or instructions, raising the risk of harm.

8. In addition, the Commission requires Participating CMS Providers' WEA-capable mobile devices to support templates in ASL. The Commission received a robust record demonstrating that ASL templates would increase the effectiveness and accessibility of WEAs for people who are deaf and hard of hearing who use ASL. The Commission believes there is no adequate substitute for ASL for many individuals in the deaf and hard of hearing community, and unlike the other languages for which we require support, however, ASL is not a language to which a mobile device can be set. Because of this, the Commission requires Participating CMS Providers' WEA-capable mobile devices to provide subscribers with the ability to opt-in to receive ASL alerts. The Commission recognizes that, unlike textual translations, English language Alert Messages would be translated into ASL by video. To avoid the risk that ASL templates could unnecessarily consume mobile device resources for individuals that do not need them, the rules allow the user's voluntary selection of the option to receive WEAs in ASL to trigger the mobile device to download ASL templates to the device. WEA-capable mobile devices need not be sold with ASL templates pre-installed on them, so long as the templates are available to download in the manner described here

9. A consumer's choice to receive Alert Message templates in ASL should override the preferred language setting and the Alert Message should be extracted in ASL. This approach is necessary to give meaning to the consumer's choice. Template-based ASL Alert Messages would function like other template-based Alert Messages in other respects.

10. The Commission directs the Public Safety and Homeland Security Bureau (Bureau) to develop the specific implementation parameters for template-based multilingual alerting. In this regard, the Third Report and Order directs the Bureau to propose and seek comment on a set of emergency alert messages for support via template as they would be written in English, the 13 most commonly spoken languages in the U.S. (Spanish, Chinese, Tagalog, Vietnamese, Arabic, French, Korean, Russian, Haitian Creole, German, Hindi, Portuguese, and Italian), and ASL. In identifying this set of emergency alert messages for support via templates, the Bureau should seek comment on which messages are most commonly used by alerting authorities, as the 2023 WEA FNPRM contemplated, as well as those which may be most time-sensitive and thus critical for immediate comprehension. The Third Report and Order also directs the Bureau to seek comment on whether this functionality can be made available on all devices.

11. The Third Report and Order further directs the Bureau to seek comment on whether the English version of the alert should be displayed in addition to the multilingual version of the alert, and whether templates can be customizable to incorporate event-specific information. The Commission recognizes commenters in the record who suggest that the multilingual template-based alert be displayed together with the English-language alert that includes additional details, to promote a fuller understanding of the nature of the emergency. Through the incorporation of event-specific information into templates, we also seek to address concerns that static template-based alerts may not be flexible enough to be useful, and would reduce an alerting authority's ability to create regionally and culturally relevant messages. The Third Report and Order directs the Bureau to assess and determine the parameters for what is feasible and would best serve the public interest in this regard.

12. The Third Report and Order also directs the Bureau to seek comment on the costs of supporting additional languages after the 13 we identify today, as well as English and ASL. The Commission believes that, after the relevant stakeholders standardize and develop the technology necessary to support template-based multilingual WEA messages, the costs for adding additional language support via this process would be negligible, while the countervailing public interest benefits would be significant. There may be many large immigrant communities nationwide including some whose members have limited English proficiency, that are not included in these 13 languages. There is general agreement that additional languages should be supported, but there are different approaches for identifying those additional languages and the record did not coalesce around any particular languages or methods. The Third Report and Order directs the Bureau to seek comment on the best approach to determine which additional languages should be supported and what those languages should be.

13. If minimally burdensome to implement, the Third Report and Order directs the Bureau to designate additional languages—beyond English, ASL, and the 13 most commonly spoken languages in the United States—that should be supported through templates. The Third Report and Order also directs the Bureau to seek comment on the timeframe in which these additional languages could be supported. The Commission also delegate authority to the Bureau to ask any additional questions relating to the development and deployment of template-based multilingual alerting that would clarify the technical processes by which such alerts would be developed, updated, and delivered.

14. After an opportunity for comment, the Bureau will publish an Order in the Federal Register that establishes the specific implementation parameters for template-based multilingual alerting, including identification of the final set of emergency messages for multilingual WEA support, as well as their accompanying pre-scripted templates. By proceeding in this manner, the Commission creates an opportunity for interested parties to take an active role in ensuring we have selected the correct messages to support through templates and that we have accurately translated them. The Third Report and Order requires Participating CMS Providers to comply with the requirements to support template-based alerting, as well as English, ASL, and the 13 most common languages (Spanish, Chinese, Tagalog, Vietnamese, Arabic, French, Korean, Russian, Haitian Creole, German, Hindi, Portuguese, and Italian) within 30 months after the Bureau publishes its Order in the Federal Register. The Third Report and Order also directs the Bureau to identify the corresponding timeframe for supporting additional languages.

15. The Commission believes that 30 months is reasonable to implement the templates for the 13 languages, as well as English and ASL. As the Third Report and Order notes, both alert templates and the extraction of pre-loaded content on a mobile device to display an alert are functionalities that are already in use today. The Commission recognizes that additional work is necessary to combine these functionalities to support multilingual WEA templates and that implementation of this requirement will require updates to standards, design development, and deployment efforts. The Commission observes that mobile device manufacturers and OS vendors have previously proven capable of developing new functionalities for WEA that required standards development, design development, and additional deployment efforts within 30 months. The Third Report and Order does not adopt all the requirements that the 2023 WEA FNPRM proposed, including the proposed performance reporting requirements.

16. Applying the 30-month compliance timeframe to all Participating CMS Providers affords sufficient time to comply. Irrespective of whether small and rural carriers choose to allocate resources to participate in the standards process in which wireless industry has routinely engaged to support compliance with the Commission's WEA requirements, the record suggests that this process can be completed within 12 months and will benefit all Participating CMS Providers equally. The remaining 18 months in the 30-month compliance timeframe include 12 months for software development and testing and 6 months for deployment in regular business cycles. The Commission believes that any delays that small and rural carriers may encounter in accessing the network equipment or mobile devices needed to support the requirements adopted today can be accommodated within the 6-month flexibility that we offer to all Participating CMS Providers. In proposing to require compliance within 30 months of the rule's publication in the Federal Register, the Commission used the same record-supported analysis as it has relied upon since 2016. The Third Report and Order also notes that the Commission has historically not provided small businesses extra time to comply with its WEA rules.

17. The Commission also agrees that languages should be maintained and reassessed to keep pace with evolving communities and technological capabilities. The Commission therefore anticipates that, in the years to come, as technology evolves and as language needs change, the Commission will continue to examine these issues to assess whether further adjustments are warranted.

18. For a multilingual WEA to reach the intended recipient, the subscriber must first set the phone to the default language of their choice. Raising public awareness about this critical step is an important component of ensuring consumers are able to take advantage of multilingual alerts. Equally important is helping consumers understand how to set a WEA-capable device to a default language that enables them to receive multilingual alerts. The Commission encourages all stakeholders involved in the distribution of WEA (CMS providers, device retailers, alerting authorities, and consumer advocates) to conduct outreach to educate the public about setting their WEA-capable devices to their preferred language to receive multilingual alerts. The Third Report and Order also directs the Bureau to work with the Consumer and Governmental Affairs Bureau in creating a consumer guide that helps consumers learn about how to set their WEA-enabled devices to their preferred language and making the guide available in the 13 languages that we are requiring for WEA today and ASL.

B. Integrating Location-Aware Maps Into Alert Messages

19. To help people personalize threats that potentially affect them, the Third Report and Order requires WEA-capable mobile devices to support the presentation of Alert Messages that link the recipient to a native mapping application on their mobile device to depict the recipient's geographic position relative to the emergency incident. The map must include the following features: the overall geographic area, the contour of the area subject to the emergency alert within that geographic area, and the alert recipient's location relative to these geographic areas. The Third Report and Order requires this functionality only on devices that have access to a mapping application, where the Alert Message's target area is specified by a circle or polygon, and where the device has enabled location services and has granted location permissions to its native mapping application.

20. The record demonstrates a compelling public safety need for WEA messages to include location-aware maps. Location-aware maps will personalize threats so recipients will more quickly understand whether an alert applies to them and hasten protective actions. Providing such maps will spur people to take actions to protect their lives and property more quickly than they otherwise might, including in situations where a timely response can save lives. The Commission also agrees with commenters that location-aware maps could mitigate the effects of target area overshoot.

21. The Third Report and Order finds that it is technically feasible to present location-aware maps, provided location services are enabled and permissions for its use are granted to the native mapping application. Notably, the Commission's Communications Security, Reliability and Interoperability Council (CSRIC) VIII finds that it is technically feasible to integrate location-aware maps into WEA, stating that “if the Alert Area is defined [by a circle or polygon,] the WEA text could be displayed on the device along with a map of the Alert Area and an indication on the map of the recipient's location.” Further, the Third Report and Order requires this feature only where the target area is described as a circle or polygon because, as CSRIC VIII noted in its recent report on the feasibility of location-aware maps in connection with WEA, pursuant to our rules and relevant standards, these are the only target area descriptions that are transmitted to mobile devices. Mobile devices will need these target area descriptions to graphically depict the Alert Message's target area within the native mapping application. Such a mapping capability should only be required where location services are enabled and permissions for its use are granted to the native mapping application, because most modern devices require user permission for locations services to work. The Commission defers to industry to specify through the standards process exactly how WEA-capable mobile devices may connect the end user to the WEA-enabled map. The Third Report and Order only requires that Participating CMS Providers' WEA-capable mobile devices clearly present the map or the option to access the map concurrent with the Alert Message. A few ways this might be achieved are for WEA-capable mobile devices to display a WEA-enabled map within the WEA message itself, to display a clickable link to a native mapping application within the WEA message, or to provide a link via a separate pop-up message that directs the user to the WEA-enabled map. No additional information would need to be broadcast over CMS Provider infrastructure to enable this functionality under any of these approaches. Accordingly, whereas the Commission proposed to codify this requirement as an Alert Message requirement for Participating CMS Providers, the record shows that the only changes needed to effectuate this functionality are in the mobile device, so the Third Report and Order codifies it as an equipment requirement instead. See Figure 1 below for an example of how a WEA location-aware map could look.

22. Figure 1 is based on the look and feel of a common native mapping application using default settings. The large circle represents the Alert Message's geographic target area and the small dot with a lighter shaded uncertainty area around it represents the user's location. Consumers regularly use the mapping applications in which the WEA target areas will be presented and are already familiar with how those applications display user location relative to geographic features.

23. The Third Report and Order requires Participating CMS Providers to comply with this requirement 36 months from the rule's publication in the Federal Register, as proposed. The Commission finds that 36 months allows more than sufficient time for Participating CMS Providers to complete of all necessary steps to make location-aware maps available to their subscribers, including technical design, standards development, testing, and deployment. No commenter demonstrated that compliance in this timeframe would be a technological impossibility. Because the Alliance for Telecommunications Industry Solutions (ATIS) has already begun this work and the Commission believes this requirement is less complex than others the Third Report and Order has required to be implemented in similar timeframes, the Commission believe that 30 months would be sufficient, however, the Third Report and Order grants Participating CMS Providers an additional six months to implement mapping to accommodate their concerns.

24. A WEA-enabled map may not be accessible to screen readers, which means the map may not be useful to blind and low vision individuals. To ensure that this mapping capability is accessible to as many people as possible and that the inclusion of maps enhances the effectiveness of WEA, the Third Report and Order encourages alerting authorities to continue to include a text-based description of the Alert Message's target area in their Alert Message. This is of service to a broad range of users, including those individuals who choose not to enable location services or grant location permissions to their device's native mapping application, or those who use legacy devices without such an application. This will contribute to the overall clarity of the Alert Message and enable those with vision impairments and other access and function needs to understand the geographic area affected by an emergency by using screen readers to understand the Alert Message's text. The Commission also expects industry to consult with mobile accessibility experts in the process of standardizing and developing this functionality to determine whether there are advances in technology that would allow location information in the map, as well as the user's location, to be accessible to screen readers.

C. WEA Performance and Public Awareness Testing

25. To allow alerting authorities to develop a better understanding of how WEA operates within their unique jurisdictions and circumstances and to engage in important public awareness exercises, the Third Report and Order requires Participating CMS Providers to support up to two end-to-end WEA tests, per county (or county equivalent), per year, that consumers receive by default. Alerting authorities may continue to use any Alert Message classification for these tests. A WEA Performance and Public Awareness Test is not a new or discrete Alert Message classification. In advance of conducting such a “WEA Performance and Public Awareness Test,” an alerting authority must do the following: (1) conduct outreach and notify the public in advance of the planned WEA test and that no emergency is, in fact, occurring; (2) include in its test message that the alert is “only a test”; (3) coordinate the test among Participating CMS Providers that serve the geographic area targeted by the test, State, local, and Tribal emergency authorities, relevant State Emergency Communications Committees (SECCs), and first responder organizations and (4) provide notification to the public in widely accessible formats that the test is only a test and is not a warning about an actual emergency. Participating CMS Providers and alerting authorities should consider notifying domestic violence support organizations, so that these organizations can in turn advise those at risk who may have secret phones to turn off their phones in advance of the test. The Third Report and Order observes that these conditions also attend alerting authorities' conduct of EAS “Live Code” Tests, which the public receives by default. Commenters state that these conditions are also reasonable to apply in the WEA context. Permitting alerting authorities to conduct limited WEA Performance and Public Awareness Testing as a matter of course will boost alerting authority and consumer confidence in WEA, allow alerting authorities to determine if the communications tools they wish to use, such as website hyperlinks embedded in WEA messages, will function as intended when needed, and provide WEA stakeholders with a way to assess Participating CMS Providers' performance of WEA. WEA Performance and Public Awareness Tests will also allow alerting authorities to raise awareness about the types of disasters to which a region is susceptible and provide alerting authorities with the ability to verify how changes in wireless providers' service offerings affect the local availability of WEA. By making it easier for alerting authorities to conduct effective WEA tests, this action will make WEA more effective overall.

26. The Third Report and Order limits the number of WEA Performance and Public Awareness Tests that Participating CMS Providers must support each year by county or county equivalent (for example, by Tribal land), rather than by alerting authority, as proposed. Incidental overshoot into a county due to another county's test does not count against the number of tests a county is allowed to conduct that intentionally cover that county.

27. However, limiting the number of permissible tests by alerting authority may be insufficient to mitigate the risk of alerting fatigue because people in counties over which alerting authorities have overlapping jurisdictions could receive a large number of additional WEA tests each year. The Third Report and Order recognizes that public-facing tests can potentially result in consumers opting out of WEA or diminish the perceived urgency of responding to emergency alerts. The outreach that the Third Report and Order requires alerting authorities to undertake in advance of issuing a WEA Performance and Public Awareness Test also helps to address commenters' concerns about alert fatigue. The Third Report and Order distinguishes the negative affect that erroneous WEA tests can have on public confidence in WEA from WEA Performance and Public Awareness Tests issued pursuant to the requirements adopted today. Alerting authorities have the discretion and judgment to test WEA in a way that serves the interests of their communities.

28. With these revisions, the Commission removes regulatory obstacles to WEA performance testing and reduce time and cost burdens on alert originators by eliminating the need to obtain a waiver. Today, alerting authorities may conduct end-to-end tests of the WEA system only using a State/Local WEA Test, which the public does not receive by default. Instead, only those people who affirmatively opt in to receive State/Local WEA tests will receive them. Alerting authorities currently must obtain a waiver to conduct WEA tests that the public receives by default, which can be cumbersome and place an unnecessary administrative burden on alerting authorities and CMS Providers. By doing away with this paperwork requirement, the Third Report and Order enables alerting authorities to more easily access this important tool.

29. The Commission's experience with “Live Code” EAS tests over the years suggests that two WEA Performance and Public Awareness Tests per year is sufficient to meet alerting authorities' public safety objectives and that the preconditions pursuant to which they are issued are effective at limiting the potential for public confusion. The Commission has found that effective public awareness testing helps the public to understand how to respond to WEAs in the event of an actual emergency. Verizon states that public-facing tests can be a valuable public education tool. Alert originators who wish to conduct additional testing may continue to utilize the State/Local WEA test code, which allows alert originators to send test messages only to those who proactively opt in to receive them. As the Commission noted in the 2023 WEA FNPRM, the Commission continues to believe that State/Local WEA Tests are valuable tools for system readiness testing and proficiency training. To the extent State/Local WEA Tests are used for proficiency training and alerting authorities' system checks, the fact that the public does not receive State/Local WEA Tests by default is beneficial.

30. Alerting authorities can use WEA Performance and Public Awareness Tests as a tool to gather data about how WEA works in practice, as the Commission has done repeatedly over the years. Multiple alerting authorities highlight the importance of receiving data about how WEA performs in their local jurisdictions. State/Local WEA Tests may be less effective than WEA Performance and Public Awareness Tests for this purpose because the amount of data that transmission of a State/Local WEA Test can generate is limited by the number of people within the target area that have affirmatively opted in to receive tests of this type. To further facilitate WEA testing for this purpose, the Commission offers alerting authorities access to a Commission survey instrument that has proven effective at gathering data about WEA's reliability, accuracy, and speed. The Third Report and Order directs the Bureau to develop translations of the survey materials in the 13 languages we require Participating CMS Providers to support for multilingual alerting as well as ASL.

31. While the Commission continues to evaluate the record on our proposed performance reporting requirements, the Commission believe that this revision of our testing rules will at least help address alerting authorities' immediate needs for WEA performance information in their jurisdictions.

32. The Third Report and Order requires Participating CMS Providers to comply with this requirement within 30 days of the Federal Register publication of notice that OMB has completed its review of these information collection requirements, as proposed. No commenter objected to this proposal.

D. Establishing a WEA Database for Availability Reporting

33. To equip alerting authorities with information that allows them to prepare for reliable emergency communications during disasters, the Third Report and Order requires all CMS Providers to refresh their WEA election status by filing this information in an electronic database hosted by the Commission. The WEA Database will be an interactive portal where CMS Providers submit information about the availability of WEA on their networks. CMS Providers are required to attest whether they participate in WEA “in whole” (meaning that they have “agreed to transmit WEA Messages in a manner consistent with the technical standards, protocols, procedures, and other technical requirements implemented by the Commission in the entirety of their geographic service area,” and that all mobile devices that they offer at the point of sale are WEA-capable), “in part” (meaning that that they offer WEA but the geographic service area condition does not apply, the mobile device condition does not apply, or both), or they may elect not to participate. Currently, CMS Providers have filed their WEA election attestations in a static format in a Commission docket, and many have not been updated since they were first filed over a decade ago.

34. The WEA Database will aggregate WEA participation information in one location for ease of access and understanding, increasing its utility for emergency planning purposes and for the public. Alerting authorities believe they need nuanced information about WEA's availability, specifically if WEA is not available in every CMS network in their alert and warning jurisdiction or in every geographic area in their alert and warning jurisdiction, so that they can make alternative arrangements to deliver emergency communications. While the Third Report and Order acknowledges that much of the information that the WEA Database will contain is already publicly available, the record shows that we can significantly increase this information's utility by aggregating it in one place. To the extent that this information is already publicly available, however, the Commission agrees that it will be minimally burdensome to provide. Aggregating this information in the WEA Database will also directly benefit consumers. Accordingly, the Commission finds that this requirement has potential to help people to protect their lives and property by encouraging and promoting the use of smartphones as emergency preparedness tools.

35. The Third Report and Order requires each CMS Provider to disclose the entities on behalf of which it files its election, irrespective of whether it elects to participate in WEA. WEA election attestation disclosures must include (a) the name and WEA participation of the CMS Provider; (b) the name and WEA participation status of any subsidiary companies on behalf of which the CMS Provider's election is filed, including when the subsidiary company is a Mobile Virtual Network Operator (MVNO) or wireless reseller wholly-owned or operated by the CMS Provider; (c) any “doing business as” names under which the CMS Provider or its subsidiaries offer wireless service to the public. The Commission agrees with the King County Emergency Management that disclosing all of the names under which a CMS Provider does business is necessary for consumers to meaningfully access the information that the WEA Database contains because consumers will often only know a corporate entity by the name under which it markets service. Similarly, the Commission finds that requiring CMS Providers to separately identify its WEA participation status and that of each of its subsidiary entities is necessary to allow consumers to understand potential nuances in WEA participation among subsidiary entities owned or controlled by the same parent company (i.e., when the CMS Provider's participation status is different from an entity on behalf of which they file (e.g., where one participates in WEA “in whole” and the other “in part”)).

36. To empower alerting authorities with information about where WEA is and is not available within their communities, the Third Report and Order requires Participating CMS Providers to disclose the geographic areas in which they offer WEA. CMS Providers that offer WEA in an area that is geographically coextensive with their wireless voice coverage area may satisfy this requirement by simply attesting to that fact. For each such provider, the Commission will use the Graphical Information System (GIS) voice coverage area map that the provider has already submitted to the Commission in furtherance of their obligations to the Commission's Broadband Data Collection. We agree with AT&T that “[t]he use of the voice GIS coverage areas would minimize the reporting burden on CMSPs while providing Alert Originators with relevant information about the availability of WEA” because many CMS Providers likely already maintain information about their network coverage in GIS format. Verizon believes that most Participating CMS Providers do offer WEA in a geographic area that is coextensive with their wireless voice coverage area. For all such providers, the burden of compliance with this requirement will be negligible.

37. CMS Providers that offer WEA in an area that is not co-extensive with their wireless voice coverage area must submit a geospatial data file compatible with the WEA Database describing their WEA coverage area to satisfy this requirement. The Commission disagrees with Verizon and AT&T that the information about Participating CMS Providers' wireless coverage areas that is publicly available today, including via the Commission's National Broadband Map, is sufficient to inform alerting authorities' use of WEA. CMS Providers that choose to participate in WEA in part do not attest that their WEA service area is coextensive with their wireless voice coverage area. Without the additional attestation that the WEA Database will elicit, it would therefore be unreasonable for an alerting authority to infer that any information that these CMS Providers make available about their wireless voice coverage area is representative of their WEA service area.

38. The Third Report and Order requires Participating CMS Providers to complete their WEA election attestation by submitting to the WEA Database a list of all the mobile devices they offer at the point of sale, indicating for each such device whether it is WEA-capable. Participating CMS Providers will be able to fulfil this obligation by listing the devices that they sell and their WEA capabilities via the WEA Database's online interface.

39. Communities can only benefit from the many WEA enhancements that the Commission has required Participating CMS Providers to support to the extent that deployed mobile devices support them. Creating an aggregated account of the WEA capabilities of the mobile devices that Participating CMS Providers sell will allow alerting authorities to understand the extent to which their communities will benefit from messages crafted to take advantage of modern WEA functionalities, such as a longer, 360-character version of an Alert Message, a Spanish-language version of an Alert Message, or clickable hyperlinks. According to New York City Emergency Management (NYCEM), this information would “allow for jurisdictions to supplement the alert with additional messaging as needed.” The Association of Public-Safety Communications Officials, Inc. (APCO) observes that this, in turn, will enable alerting authorities to use WEA more effectively as one emergency communications tool among many at their disposal. For these reasons, the Commission does not share AT&T's concern that “the Commission's WEA Database is likely to suffer from the same underutilization as the Commission's database of hearing-aid compatible devices.” Further, whereas the Hearing-Aid Compatible database is primarily intended to be consumer-facing (and each consumer is likely most concerned with the compatibility of devices that they are personally considering for purchase from a particular provider), the publication of the WEA data that will be collected in the WEA Database is primarily intended for use by alerting authorities that need to have the wholistic view of the WEA capabilities of mobile devices in use in their communities that the WEA Database will provide.

40. The Third Report and Order directs the Bureau, in coordination with the Wireless Telecommunications Bureau and the Office of Economics and Analytics, to implement the requirements of this collection and the publication of the data collected. The Third Report and Order further directs the Bureau to publish information about how Participating CMS Providers will be able to submit their data and to announce when the WEA Database is ready to accept filings. The Third Report and Order requires all CMS Providers, irrespective of whether they have already submitted a WEA election attestation in the WEA election docket, to refresh their elections to participate in WEA using the WEA Database within 90 days of the Bureau's publication of a public notice announcing (1) OMB approval of any new information collection requirements or (2) that the WEA Database is ready to accept filings, whichever is later.

41. Most CMS Providers have not updated their election to transmit alert messages since filing their initial election in 2008. As a result, the Commission is concerned that many WEA elections could now be outdated and do not accurately reflect WEA's current availability. The Commission agrees with Verizon that “refreshing service provider elections are sensible, given the time that has lapsed since service providers submitted their elections over a decade ago and the many intervening changes in the wireless industry.” The Third Report and Order also allows Participating CMS Providers to use the WEA Database to notify the Commission of any change of their election to participate in WEA, whether that change be an increase or decrease in WEA participation. Participating CMS Providers must continue to notify new and existing subscribers of their withdrawal using the specific notification language required by the rules, which triggers a subscriber's right to terminate their subscription without penalty or early termination fee. A CMS Provider withdraws from WEA if its participation status changes from “in whole” to “in part” or “no” or if it changes its participation status from “in part” to “no.” The Commission proposed to require compliance with this requirement within 30 days of the publication of this public notice. On our own initiative, however, the Third Report and Order extends this compliance timeframe to 90 days to allow Participating CMS Providers the 60-days' notice that our rules require them to provide to their subscribers in advance of any withdrawal of their WEA participation. After refreshing their elections, the Third Report and Order requires Participating CMS Providers to update their WEA election information in the WEA Database biannually as with the Commission's Broadband Data Collection (BDC). The Third Report and Order directs the Bureau to assess, in coordination with the Commission's Wireless Telecommunications Bureau and Office of Economics and Analytics the extent to which updates to geospatial voice coverage data in the Broadband Data Collection can automatically populate in the WEA Database, reducing the potential burden of compliance with this requirement. While the FNPRM proposed for this information to be updated within 30 days of any change to a Participating CMS Provider's WEA coverage areas or the WEA capabilities of the mobile devices it sells, the Commission is persuaded that filing every 6 months (biannually) is consistent with our BDC requirements would accomplish our goals without unduly burdening Participating CMS Providers.

42. The Commission is persuaded not to require Participating CMS Providers to provide an account of their roaming partners via the WEA Database at this time. The Commission agrees that “given the comprehensive roaming arrangements across the industry, maintaining this information would be too unwieldy for individual providers and result in confusing, duplicative information for consumers.”

43. The Commission is also persuaded not to require CMS Providers to attest to the WEA capabilities of resellers of their facilities-based services at this time, unless those resellers are wholly-owned or controlled by the CMS Provider. The Third Report and Order agrees that Participating CMS Providers should not be required to provide information to which they may not have access, such as participation information for entities they do not control. The record demonstrates that Participating CMS Providers may not have access to WEA participation information about Mobile Virtual Network Operators (MVNOs) or wireless resellers, even when they have a direct business relationship with such entities. According to Verizon, “[f]acilities-based providers do not directly control and may not have direct visibility into the WEA capabilities of . . . MVNO/resellers' customer devices, or all the particular facilities-based providers with whom the MVNO/reseller has a business relationship,” and that “CMS Providers do not ordinarily have visibility into whether a MVNO/reseller's mobile devices are WEA-capable or the extent to which an MVNO/reseller is provisioning its own wireless RAN facilities, for example through CBRS spectrum.”

44. The Third Report and Order also agrees with Verizon, however, that “it is reasonable and appropriate for MVNO/resellers to publicly disclose the WEA capabilities of the devices and the facilities-based services they directly offer to their own customers” because of their significant role in the wireless marketplace. The Third Report and Order observe that many MVNOs and wireless resellers have elected to participate in WEA. The Commission encourages these entities to use the WEA Database to keep their WEA election information up to date so that alerting authorities and consumers can be informed about the extent to which they should expect WEAs to be delivered via their networks.

45. The Third Report and Order determines that information submitted to the WEA Database under the rules does not warrant confidential treatment and should be available to the public, as proposed. The Commission observes that the WEA availability information that Participating CMS Providers would submit to the WEA Database is already publicly available, although not aggregated with other WEA information. The information that Participating CMS Providers would supply to the WEA Database about their WEA coverage area is already publicly available through the National Broadband Map, which makes available for download the mobile voice coverage areas collected through the Broadband Data Collection. Similarly, many Participating CMS Providers already make publicly available information about the WEA-capable mobile devices that they offer at the point of sale. The Commission does not believe that the public availability of this information raises any concerns about national security or competitive sensitivity, and it would not include any personally identifiable information or consumer proprietary network information. No commenter objected to this proposal.

E. Legal Authority

46. The Third Report and Order finds that the Commission has ample legal basis to adopt the targeted revisions to the rules adopted that are designed to make WEA more accessible to a wider range of people, including members of the public who primarily speak a language other than English or Spanish and people with disabilities. These amendments are grounded in the Commission's authority under the Communications Act of 1934, as amended, as well as the WARN Act. The Third Report and Order rejects commenters' assertions to the contrary.

47. The Competitive Carrier Association (CCA) contends that there are limits on the Commission's authority to adopt enhancements to the system given the timing specifications in the WARN Act and its provision that the Commission “shall have no rulemaking authority under this chapter, except as provided in paragraphs (a), (b), (c), and (f).” See 47 U.S.C. 1201(a) and (d).

48. Consistent with the WARN Act, WEA “enable[s] commercial mobile service alerting capability for commercial mobile service providers that voluntarily elect to transmit emergency alerts.” The WEA system is a voluntary program designed to deliver life-saving emergency information to the public, and the Commission has worked hard to build enhancements into the system since it was created. The system now includes embedded links to additional information, Spanish-language alerts, and geotargeting designed to help messages reach the intended audience that needs the information to act in an emergency. Today's improvements, which will help reach audiences that speak additional languages or that have disabilities that could limit WEA's utility in its present form, build on these prior efforts. Those providers opting to support the system must be prepared to accommodate these enhancements and to follow the rules that the Commission adopts.

49. With that important context in mind, the Commission finds no merit in CCA's contentions. Contrary to CCA's view, the time periods set out in paragraphs (a), (b), and (c) only established deadlines for initial actions on the directives described in those provisions. Moreover, paragraph (f), which is also referenced in paragraph (d), contains no deadline for the Commission's regulatory authority over WEA technical testing. Under CCA's interpretation of the statute, the Commissoin's WEA rulemaking authority would have lapsed after establishing initial rules in 2008; yet this reading is inconsistent with Congress's amendment of the WARN Act in 2021, when it directed the Commission to examine the feasibility of expanding the reach of emergency alerts using new technologies. In fact, a bipartisan group of lawmakers representing both chambers of Congress has expressed keen interest in continuing to upgrade WEA to support multilingual capabilities. Over time, the Commission's enhancements to WEA and Congress's recognition of the importance of the system, including those enhancements, reflect Congress's endorsement of how the Commission was exercising its authority under the WARN Act.

50. In any event, however, the Commission's legal authority concerning emergency alerts is based not solely on the provisions of the WARN Act but also on several provisions of the Communications Act, which is the backdrop against which Congress adopted the WARN Act. In particular, section 303(b) directs the Commission to “[p]rescribe the nature of the service to be rendered” by licensees. The rule changes in the Third Report and Order do just that—lay down rules about the nature of services to be rendered by Participating CMS Providers. They do so pursuant to the Commission's finding that the “public convenience, interest, or necessity requires” doing so and in fulfillment of the statutory purpose of “promoting safety of life and property through the use of wire and radio communications.” To the extent that section 602(d) of the WARN Act limits the Commission's rulemaking authority, it does so only as to the authority granted under that Act and does not limit the Commission's preexisting and well-established authority under the Communications Act. To be clear, the phrase “this chapter” in 47 U.S.C. 1201 refers to chapter 11 of title 47 of the United States Code and corresponds to the phrase “this title” in the original Security and Accountability for Every Port Act, which referred to title VI thereof, i.e., the WARN Act.

F. Assessing the Benefits and Costs

51. The Commission finds that the benefits from the improvements made to WEA by the Third Report and Order exceed their cost. In the 2023 WEA FNPRM, the Commission estimated that the proposed rules would result in an industry-wide, one-time compliance cost of $39.9 million and an annually recurring cost of $422,500 to update the WEA standards and software necessary to comply with the rules adopted in this Report and Order. While the Third Report and Order does not adopt all the 2023 WEA FNPRM's proposals, such as including thumbnail images, modifying the attention signal and vibration cadence capabilities, or requiring any performance-related benchmarking or reporting, the Commission believes that the 2023 WEA FNPRM's estimate remains a reasonable ceiling for the cost of compliance with the rules adopted in the Third Report and Order. The activities in which industry will engage to comply with the requirements we adopt today (the creation and revision of standards and the development and testing of software) are not easily amenable to subdivision based on lines of text written or lines of code programmed. While the WEA standards will undoubtedly require less revision and less code will need to be written to comply with the requirements adopted by the Third Report and Order, the Commission does not attempt to quantify the extent of cost reduction that will result. The record reflects the significant benefits arising from WEA support for additional functionalities, including enhancing language support and providing location-aware maps. These enhanced functionalities of WEA will make WEAs comprehensible for some language communities for the first time, helping to keep these vulnerable communities safer during disasters. These enhancements will also encourage consumers to remain opted-in to receiving WEA messages and incentivize emergency managers that are currently not alerting authorities to become authorized with FEMA to use WEA as a tool for providing information in times of emergencies. With increased participation by both consumers and emergency managers, WEAs will be more likely to be both sent and received, leading to an incremental increase in lives saved, injuries prevented, and reductions in the cost of deploying first responders. The Commission bases its assessment of costs on the quantitative framework on which the Commission relied in the 2023 WEA FNPRM. The Commission sought comment on the costs and benefits of our proposed rules in the 2023 WEA FNPRM, but received a sparse record in response, including no dollar figure estimates. Although most of the benefits are difficult to quantify, the Commission believes they outweigh the overall costs of the adopted rules.

52. The Commission believes that the rules adopted will result in benefits measurable in terms of lives saved and injuries and property damage prevented. The Commission agrees with Verizon that these rule changes could offer “tangible safety benefits to consumers and alert originators.” According to CTIA and Southern Communications Services, Inc. d/b/a Southern Linc (Southern Linc), WEA has become one of the most effective and reliable alert and warning tools for public safety and the public. The requirements adopted in the Third Report and Order will both promote the availability of those benefits for a greater number of people and enhance their benefit for those for whom they were already available. The Commission also recognizes that it is difficult to assign precise dollar values to changes to WEA that improve the public's safety, life, and health.

53. Making WEA Accessible to Millions of People Who Primarily Speak a Language Other Than English or Spanish. Currently, the 76 CMS Providers participating in WEA send alerts to 75% of mobile phones in the country. Among the 26 million people who do not primarily speak English or Spanish, nearly 15.4 million speak primarily one of the 12 languages that we integrate into the WEA system in addition to English and Spanish. Assuming 66% of these individuals are covered by the WEA system, approximately 11.5 million people who have been receiving WEA messages in languages they may have difficulty comprehending would understand the content of WEA messages under the proposed WEA language support. The Commission agrees with Verizon that “the public safety benefits to non-English-speaking consumers and communities by improving access to life-saving information are self-evident.” Even if alerts reach just 1% of this population per year (i.e., roughly 150,000 people) the potential of WEA to prevent property damage, injuries, and deaths could be enormous. Further, over 12 million people are with a hearing difficulty. Requiring Participating CMS Providers to provide subscribers with the ability to opt-in to receive ASL alerts would help effectively prevent property damages, injuries, and loss of life for these individuals who are deaf or hard-of-hearing.

54. Integrating Location-Aware Maps into Alert Messages. Alert messages that link the recipient to a native mapping application would help the public to personalize alerts, allowing them to better understand the geographic area under threat and their location relative to it. The Commission agrees with ATIS and NYCEM that location-aware maps will provide the public with a better understanding of the emergency alerts they receive. It follows that this will likely cause recipients to take protective action more quickly than they otherwise would. This requirement will yield particular benefits in the most time-sensitive emergencies, such as earthquakes and wildfires, where every second can count.

55. WEA Performance and Public Awareness Tests. The Commission agrees with AT&T and Verizon, among others, that adopting rules to permit alerting authorities to conduct up to two WEA Performance and Public Awareness Tests per year may improve alerting authorities' awareness of and confidence in WEA and provide alerting authorities with a tool to improve consumer education about and confidence in WEA. This awareness and education will result in more prompt and effective public response to WEAs when issued, potentially saving lives, protecting property, and reducing the cost of deploying first responders. Further, this rule may encourage more alerting authorities to participate in WEA due to promoting a better understanding of it, and with increased participation by alerting authorities, more of the public will benefit from the lifesaving information conveyed by WEA. The Commission also agrees with APCO that “[t]esting is fundamental to public safety communications and will improve the system's trustworthiness and effectiveness.” The Commission further believes harmonizing WEA and EAS test rules would simplify alerting authorities' efforts to test and exercise their public alert and warning capability and allow EAS and WEA tests to be more closely and easily coordinated.

56. Establishing a WEA Database for Availability Reporting. The Third Report and Order determines that the rules establishing a WEA Database and requiring CMS Providers to refresh their WEA participation election will equip alerting authorities with information they need to plan for reliable communications during disasters and raise their confidence in WEA. The Commission agrees with alerting authorities that the WEA Database will allow them to know both where WEA is and is not available within their alert and warning jurisdictions, allowing them to maximize the public safety value derived from other emergency communications tools. Creating an aggregated account of the WEA capabilities of the mobile devices that Participating CMS Providers sell will also allow alerting authorities to understand the extent to which their communities will benefit from messages crafted to take advantage of modern WEA functionalities, such as a longer, 360-character version of an Alert Message, a Spanish-language version of an Alert Message, or clickable hyperlinks. The Commission also agrees with T-Mobile that “this information will help the public and alert originators understanding which wireless providers support WEA, where the service is available, and what handsets can be obtained to reap the full benefits of WEA.”

57. The Third Report and Order estimates that the rules adopted in the Third Report and Order could result in an industry-wide, one-time compliance cost of, at most, $42.4 million to update the WEA standards and software necessary to comply with the rules adopted in this Third Report and Order and an annually recurring cost of $422,500 for recordkeeping and reporting. In the Third Report and Order, the Commission takes appropriate steps to ensure that these costs are not unduly burdensome. At the same time, as the Commission observed in the 2023 WEA FNPRM, CMS Providers' participation in WEA is voluntary. Any Participating CMS Provider that does not wish to comply with the rules we adopt today may withdraw their election to participate in WEA without penalty, and incur no implementation costs as a result.

58. Consistent with prior estimates, the one-time cost of $42.4 million to update the WEA standards and software necessary to comply with the proposals in the Further Notice includes approximately a $845,000 to update applicable WEA standards and approximately a $41.5 million to update applicable software. The Third Report and Order quantifies the $845,000 cost of modifying standards as the annual compensation for 30 network engineers compensated at the national average wage for their field ($$62.25/hour), plus a 45% mark-up for benefits ($28.01/hour) working for the amount of time that it takes to develop a standard (one hour every other week for one year, 26 hours) for 12 distinct standards. The $41.5 million cost estimate for software updates consists of $12.2 million for software modifications and $29.3 million for software testing. The Commission quantified the cost of modifying software as the annual compensation for one software developer compensated at the national average wage for their field ($132,930/year), plus a 45% mark-up for benefits ($59,819/year), working for the amount of time that it takes to develop software (ten months) at each of the 76 CMS Providers that participate in WEA. The Commission quantified the cost of testing these modifications (including integration testing, unit testing and failure testing) to require 12 software developers compensated at the national average for their field working for two months at each of the 76 CMS Providers that participate in WEA. In quantifying costs for software development, the Commission has used the same framework since 2016 for changes to software ranging from expanding WEA's maximum character limit to enhanced geo-targeting. Because the Commission received no comment to the aforementioned costs framework that specifies a different analytical framework or dollar figure estimate, the Third Report and Order finds that it remains accurate to describe the costs attendant to the rules the Commission proposed. Because the Commission does not adopt all the rules the Commission proposed in the 2023 WEA FNPRM, the Commission believes the rules we adopted in the Third Report and Order will cost less than what was proposed in the 2023 WEA FNPRM, but do not quantify how much less here.

59. The Commission determines that costs associated with our adopted rules related to WEA availability reporting to be relatively low for Participating CMS Providers that participate in WEA in whole or that otherwise offer WEA in the entirety of their geographic service area because such Participating CMS Providers have already provided the Commission with the geospatial data needed to fulfill a significant aspect of their reporting obligation in furtherance of their obligations to support the Commission's Broadband Data Collection. The Commission agrees with T-Mobile that “[w]here WEA is available throughout a wireless provider's network, the GIS files used for the biannual Broadband Data Collection should serve this purpose. If a wireless provider does not offer WEA throughout its network, it should be allowed to submit a different GIS depicting WEA coverage.” The Commission determines that in the Supporting Document of Study Area Boundary Data Reporting in Esri Shapefile Format, the Office of Information and Regulatory Affairs estimates that it takes an average of 26 hours for a data scientist to modify a shapefile. The Commission believes submitting WEA availability information in geospatial data format should require no more time than modifying a shapefile. Therefore, the Commission believes 26 hours would be an upper bound of the time required for a Participating CMS Provider to report its WEA availability in geospatial data format. Given that the average wage rate is $55.40/hour for data scientists, with a 45% markup for benefits, we arrive at $80.33 as the hourly compensation rate for a data scientist. The Commission estimates an aggregate cost of WEA availability reporting to be approximately $$160,000 (≉ $80.33 per hour × 26 hours × 76 providers = $158,732, rounded to $160,000), which may be recurring on an annual basis since availability may change and need to be updated over time. Within these 26 hours, the Commission believes that Participating CMS Providers will also be able to provide the availability information required by the rules adopted today, including lists of all the mobile devices the Participating CMS Provider offers at the point of sale, list of the Participating CMS Provider's DBAs and subsidiaries, and any changes of WEA service. Many Participating CMS Providers already create and maintain this information, and therefore, the Commission believes that providing this information to the WEA Database would require minimal time burdens and would be within the cost estimates.

60. No commenter objected to the belief that CMS Providers would not incur any cost to comply with our proposal to allow alerting authorities to conduct two public awareness tests per year. Based on the foregoing analysis, the Commission finds it reasonable to expect that these improvements will result in lives saved, injuries avoided, and a reduced need to deploy first responders. The Commission concludes that the expected public safety benefits exceed the costs imposed by the rules adopted today.

G. Procedural Matters

61. Regulatory Flexibility Act. The Regulatory Flexibility Act of 1980, as amended (RFA) requires that an agency prepare a regulatory flexibility analysis for notice and comment rulemakings, unless the agency certifies that “the rule will not, if promulgated, have a significant economic impact on a substantial number of small entities.” Accordingly, the Commission has prepared a Final Regulatory Flexibility Analysis (FRFA) concerning the potential impact of the rule and policy changes adopted and proposed in the Third Report and Order, on small entities.

62. Congressional Review Act. The Commission has determined, and the Administrator of the Office of Information and Regulatory Affairs, Office of Management and Budget, concurs, that this rule is non-major under the Congressional Review Act, 5 U.S.C. 804(2). The Commission will send a copy of this Third Report and Order to Congress and the Government Accountability Office pursuant 5 U.S.C. 801(a)(1)(A).

63. People With Disabilities. To request materials in accessible formats for people with disabilities (braille, large print, electronic files, audio format), send an email to fcc504@fcc.gov or call the Consumer & Governmental Affairs Bureau at 202-418-0530 (voice).

64. Additional Information. For additional information on this proceeding, contact Michael Antonino, Cybersecurity and Communications Reliability Division, Public Safety and Homeland Security Bureau (202) 418-7965, or by email to Michael.Antonino@fcc.gov.

H. Ordering Clauses

65. Accordingly it is ordered, pursuant to the authority contained in sections 1, 2, 4(i), 4(n), 301, 303(b), 303(e), 303(g), 303(j), 303(r), 307, 309, 316, 403, and 706 of the Communications Act of 1934, as amended, 47 U.S.C. 151, 152, 154(i), 154(n), 301, 303(b), 303(e), 303(g), 303(j), 303(r), 307, 309, 403, and 606, as well as by sections 602(a), (b), (c), (f), 603, 604 and 606 of the Warning Alert and Response Network (WARN) Act, 47 U.S.C. 1201(a), (b), (c), (f), 1203, 1204 and 1206, that this Third Report and Order is hereby adopted.

66. It is further ordered that Part 10 of the Commission's rules is amended as specified, and such rules will become effective thirty-six (36) months after publication of this Third Report and Order in the Federal Register, changes to 47 CFR 10.210 and 10.350, which may contain new or modified information collection requirements, and will not become effective until the completion of any review by the Office of Management and Budget under the Paperwork Reduction Act that the Public Safety and Homeland Security Bureau (PSHSB) determines is necessary, and changes to 47 CFR 10.480 and 10.500(e), which are the subject of a further Bureau-level rulemaking, and will not become effective until thirty (30) months after the Bureau publishes a subsequent Order in the Federal Register. PSHSB will publish a notice in the Federal Register announcing the relevant effective date for each of these sections.

67. It is further ordered that the Office of the Managing Director, Performance & Program Management, shall send a copy of this Third Report and Order in a report to be sent to Congress and the Government Accountability Office pursuant to the Congressional Review Act, 5 U.S.C. 801(a)(1)(A).

Final Regulatory Flexibility Analysis

68. As required by the Regulatory Flexibility Act of 1980, as amended (RFA), an Initial Regulatory Flexibility Analysis (IRFA) was incorporated into the FNPRM released in June 2023 in this proceeding. The Commission sought written public comment on the proposals in the NPRM, including comment on the IRFA. Comments filed addressing the IRFA are discussed below. This present Final Regulatory Flexibility Analysis (FRFA) conforms to the RFA.

A. Need for, and Objectives of, the Final Rules

69. In this proceeding, the Commission adopts rules to enhance the utility of the Wireless Emergency Alert (WEA) system by making it more accessible and enabling WEAs to provide more personalized alerts. Specifically, the Commission requires Participating Commercial Mobile Service Providers (Participating CMS Providers) to enable alerting authorities to display translated Alert Message content via the use of emergency alert message templates. In addition, these efforts to make WEA messages more accessibility extend to the deaf and hard of hearing community pursuant to the requirement that Participating CMS Providers' WEA-capable mobile devices support templates in American Sign Language (ASL). The Commission concludes that enabling the display of translated Alert Message content via the use of emergency alert message templates will allow alert originators to inform those communities that primarily speak a language other than English or Spanish of emergencies and save more lives. The Commission also adopts rules to require Participating CMS Providers' WEA-capable mobile devices to support the presentation of WEA messages that link the recipient to a native mapping application. This requirement will allow alert originators to personalize alerts, spurring people to take protective action more quickly and to understand whether an alert applies to their them. Further, to allow alerting authorities to understand WEA's reliability, speed, and accuracy and to promote the use of WEA as a tool for raising public awareness about emergencies likely to occur, the Commission requires Participating CMS Providers to support up to two end-to-end WEA tests, per county or county equivalent, per year, that consumers receive by default, subject to the conditions described in the Third Report and Order. The adoption of this rule promotes compliance and presents a minimal burden for Participating CMS Providers. Finally, the Commission adopts rules to require Participating CMS Providers to submit certain information in the WEA Database. Requiring the disclosure of data outlined in the Third Report and Order will allow alert originators and consumers more insight into WEA's availability and enable a transparent understanding of WEA.

70. In light of the significant public safety benefits, which include the capacity to save lives, mitigate and prevent injuries, the Commission believes that the actions taken in the Third Report and Order further the public interest.

B. Summary of Significant Issues Raised by Public Comments in Response to the IRFA

71. Three commenters specifically addressed the proposed rules and policies presented in the IRFA. The Competitive Carriers Association (CCA) argued that flexibility of implementing the proposed rules would promote participation in WEA by smaller and regional carriers because the supply chain and level of support for handsets for smaller and regional carriers generally lags behind nationwide carriers. Further, CCA stated the additional requirements would disproportionately burden smaller and regional carriers that operate with small teams and limited resources. CCA suggested increased time for compliance for non-nationwide carriers.

72. Southern Communications Services, Inc. d/b/a Southern Linc (Southern Linc) raised concerns similar to those raised by CCA, namely, that the Commission should account for the disproportionate impact that the proposed requirements in the 2023 WEA FNPRM would have on smaller and regional carriers and the Commission should provide small and medium-sized mobile service providers additional time to comply.

73. CTIA—The Wireless Association (CTIA) argued that to the extent the proposals made in the 2023 WEA FNPRM would require a complete overhaul of the WEA System, that such changes to the WEA system also may disproportionately impact regional and smaller, rural carriers, who often rely on third-party vendors to implement WEA functions and may not be able to bear the additional technical and financial burdens, rendering their ongoing voluntary participation in WEA infeasible.

74. The Commission considered the potential impact of the rules proposed in the IRFA on small entities and we concluded that these mandates provide Participating CMS Providers with a sufficient measure of flexibility to account for any technical and/or cost-related concerns. The Commission has determined that implementing these improvements to WEA are technically feasible for small entities and other Participating CMS Providers and the cost of implementation is reasonable. To help facilitate compliance with the requirements in the Third Report and Order, the Commission adopted a compliance timeframe that is longer than the timeframe necessary to complete the requirements based on the record. The 30-month timeframe allows 12 months for the appropriate industry bodies to finalize and publish relevant standards, 12 months for Participating CMS Providers and device manufacturers to develop and integrate software upgrades consistent with those standards, and an additional 6 months to deploy this technology in WEA-capable-mobile devices. The Commission believes that the public interest benefits of expanding the reach and accessibility of WEA significantly outweigh the costs that small and other providers will incur to implement the requirements adopted in the Third Report and Order.

C. Response to Comments by Chief Counsel for Advocacy of the Small Business Administration

75. The Chief Counsel did not file any comments in response to the proposed rules in this proceeding.

D. Description and Estimate of the Number of Small Entities to Which the Rules Will Apply

76. The RFA directs agencies to provide a description of and, where feasible, an estimate of the number of small entities that may be affected by the rules adopted herein. The RFA generally defines the term “small entity” as having the same meaning as the terms “small business,” “small organization,” and “small governmental jurisdiction.” In addition, the term “small business” has the same meaning as the term “small business concern” under the Small Business Act.” A “small business concern” is one which: (1) is independently owned and operated; (2) is not dominant in its field of operation; and (3) satisfies any additional criteria established by the SBA. The types of entities that will be affected include Wireless Communications Services, Radio and Television Broadcasting and Wireless Communications Equipment Manufacturing, Software Publishers, Noncommercial Educational (NCE) and Public Broadcast Stations, Cable and Other Subscription Programming, All Other Telecommunications providers (primarily engaged in providing specialized telecommunications services, such as satellite tracking, communications telemetry, and radar station operation).

E. Description of Projected Reporting, Recordkeeping, and Other Compliance Requirements for Small Entities

77. The Third Report and Order will adopt new or additional reporting, recordkeeping and/or other compliance obligations on small entities to report information about WEA availability in the WEA Database. Specifically, the rules require all CMS Providers to: (1) refresh their WEA election of whether to participate in WEA “in whole” or “in part” or not to participate in a Commission-hosted, publicly available WEA Database; (2) disclose the entities on behalf of which it files its election, irrespective of whether it elects to participate in WEA, including names of subsidiary companies and the “doing business as” names under which a CMS Provider offer wireless service; (3) disclose the geographic areas in which they offer WEA; (4) submit to the WEA Database a list of all the mobile devices they offer at the point of sale; and (5) use the WEA Database as a means of providing notice of withdrawing their election to Participating in WEA.

78. The Commission determined that costs associated with the adopted rules related to WEA availability reporting to be minimal for small entities that participate in WEA in whole or that otherwise offer WEA in the entirety of their geographic service area because such small entities may have already provided the Commission with the geospatial data needed to fulfill a significant aspect of their reporting obligation in furtherance of their obligations to support the Commission's Broadband Data Collection. Where WEA is available throughout a wireless provider's network, the GIS files used for the biannual Broadband Data Collection should serve this purpose. If a wireless provider does not offer WEA throughout its network, it should be allowed to submit a different GIS depicting WEA coverage. The Commission determined that in the Supporting Document of Study Area Boundary Data Reporting in Esri Shapefile Format, the Office of Information and Regulatory Affairs estimates that it takes an average of 26 hours for a data scientist to modify a shapefile. The Commission believes submitting WEA availability information in geospatial data format should require no more time than modifying a shapefile. Therefore, the Commission believes 26 hours would be an upper bound of the time required for a Participating CMS Provider to report its WEA availability in geospatial data format.

79. The Commission reasons that no additional, ongoing or annualized burdens will result from this reporting obligation for small entities and other Participating CMS Providers because the requirement that we adopt today does not change the approach that Participating CMS Providers must take to updating their elections once this one-time renewed election is completed. For example, the rules adopted in the Third Report and Order do not impose annual certification of a CMS Provider's participation in WEA, but rather require reporting in the WEA Database only in event of a change of a CMS Provider's participation in WEA. The Commission is not currently in a position to determine whether the rules adopted in the Third Report and Order will require small entities to hire attorneys, engineers, consultants, or other professionals to comply.

F. Steps Taken To Minimize Significant Economic Impact on Small Entities, and Significant Alternatives Considered

80. The Commission continues to adopt measures to improve WEA and continues to meet its obligation to develop the nation's emergency preparedness and response infrastructure by making WEA more accessible by adding multilingual (including ASL) functionality, integrating location-aware maps, enabling Performance and Public Awareness tests, and establishing a WEA Database for Participating CMS Providers to report information about WEA availability. While doing so, the Commission is mindful that small entities may incur costs; the Commission weighed these costs against the public interest benefits of the new obligations and determined the benefits outweigh the costs. The specific steps the Commission has taken to minimize costs and reduce the economic impact for small entities and alternatives considered are discussed below.

81. In adopting the rule to enable alerting authorities to display translated Alert Message content via the use of emergency alert message templates, the Commission found the record demonstrates that machine translation is not yet ripe for use today in WEA. The use of alert message templates should minimize the impact of the adopted requirements for small entities because it will limit developing software and standards to enable machine translations. Because the alert message templates will be produced by the Public Safety and Homeland Security Bureau after taking into account public feedback, small entities will not need to expend resources to translate emergency messages and develop template alert messages.

82. In response to concerns about our proposed compliance timeframe, the Third Report and Order provided additional time. The Commission believes the additional time will help minimize the burden on small entities. Additionally, the rules adopted in the Third Report and Order are technologically neutral to provide small entities the flexibility to comply with our rules using technologies offered by a variety of vendors.

G. Report to Congress

83. The Commission will send a copy of the Third Report and Order, including this FRFA, in a report to be sent to Congress pursuant to the Congressional Review Act. In addition, the Commission will send a copy of the Third Report and Order, including this FRFA, to the Chief Counsel for Advocacy of the SBA. A copy of the Third Report and Order and FRFA (or summaries thereof) will also be published in the Federal Register.

List of Subjects in 47 CFR Part 10

Communications common carriers, Radio.

Federal Communications Commission.
Marlene Dortch,
Secretary.

Final Rules

For the reasons discussed in the preamble, the Federal Communications Commission amends 47 CFR part 10 as follows:

PART 10—WIRELESS EMERGENCY ALERTS

1. Effective December 15, 2026, the authority citation for part 10 is revised to read as follows:

Authority: 47 U.S.C. 151, 152, 154(i), 154(n), 201, 301, 303(b), 303(e), 303(g), 303(j), 303(r), 307, 309, 316, 403, 544(g), 606, 1201, 1202, 1203, 1204, and 1206.

2. Delayed indefinitely, amend § 10.210 by revising paragraph (a) introductory text, redesignating paragraph (b) as paragraph (d), adding new paragraph (b), revising paragraph (c), and revising the newly redesignated paragraph (d).

The revisions and addition read as follows:

§ 10.210 WEA participation election procedures.

(a) A CMS provider that elects to transmit WEA Alert Messages must elect to participate in part or in whole, as defined by § 10.10(l) and (m), and shall electronically file in the Commission's WEA Database attesting that the Provider:

* * * * *

(b) A CMS Provider that elects to participate in WEA must disclose the following information in their election filed in the Commission's WEA Database:

(1) The entities on behalf of which the Participating CMS Provider files its election, including the subsidiary companies (whether those subsidiaries are wholly owned or operated CMS Providers, Mobile Virtual Network Operators, or wireless resellers) on behalf of which their election is filed and the “doing business as” names under which a Participating CMS Provider offers WEA;

(2) The geographic area in which the Participating CMS Provider agrees to offer WEA alerts, either as:

(i) An attestation that they offer WEA in the entirety of their voice coverage area as reported to the Commission in the Broadband Data Collection or any successors; or

(ii) Geospatial data submitted to the Commission through the WEA Database.

(3) The extent to which all mobile devices that the Participating CMS Provider offers at the point of sale are WEA-capable, as demonstrated by the following:

(i) The mobile devices, as defined in § 10.10(j), that the Participating CMS Provider offers at their point of sale; and

(ii) The WEA-capable mobile devices, as defined in § 10.10(k), that the Participating CMS Provider offers at their point of sale.

(c) If the terms of a CMS Provider's WEA participation change in any manner described by paragraph (b) of this section, it must update the information promptly such that the information in the WEA Database accurately reflects the terms of their WEA participation. Updates (if any) for the period from August 16 through February 15 must be filed by the following March 1, and updates for the period from February 16 through August 15 must be filed by the following September 1 of each year.

(d) A CMS Provider that elects not to transmit WEA Alert Messages shall file electronically in the Commission's WEA Database attesting to that fact. Their filing shall include any subsidiary companies on behalf of which the election is filed and the CMS Provider's “doing business as” names, if applicable.

3. Delayed indefinitely, amend § 10.350 by adding paragraph (d) to read as follows:

§ 10.350 WEA testing and proficiency training requirements.

* * * * *

(d) Performance and Public Awareness Tests. Participating CMS Providers may participate in no more than two (2) WEA tests per county (or county equivalent), per calendar year that the public receives by default, provided that the entity conducting the test:

(1) Conducts outreach and notifies the public before the test that live event codes will be used, but that no emergency is, in fact, occurring;

(2) To the extent technically feasible, states in the test message that the event is only a test;

(3) Coordinates the test among Participating CMS Providers and with State and local emergency authorities, the relevant SECC (or SECCs, if the test could affect multiple States), and first responder organizations, such as PSAPs, police, and fire agencies); and

(4) Provides in widely accessible formats the notification to the public required by this paragraph that the test is only a test and is not a warning about an actual emergency.

4. Delayed indefinitely, revise § 10.480 to read as follows:

§ 10.480 Language support.

(a) Participating CMS Providers are required to transmit WEA Alert Messages that are issued in the Spanish language or that contain Spanish-language characters.

(b) Participating CMS Providers are required to support the display of a pre-scripted alert pre-installed and stored in the mobile device that corresponds to the default language of the mobile device.

5. Effective December 15, 2026, amend § 10.500 by adding paragraph (i) to read as follows:

§ 10.500 General requirements.

* * * * *

(i) For Alert Messages with a target area specified by a circle or polygon, when a device has location services enabled and has granted location permissions to its native mapping application, Participating CMS Providers must support the presentation of a map along with an emergency alert message that includes at least

(1) The shape of the target area,

(2) The user's location relative to the target area, and

(3) A geographical representation of a target area in which both the targeted area and user are located.

6. Delayed indefinitely, further amend § 10.500 by revising paragraph (e) to read as follows:

§ 10.500 General requirements.

* * * * *

(e) Extraction of alert content in English and the subscriber-specified default language, if applicable.

(1) Storing pre-scripted alerts in English, Spanish, Chinese, Tagalog, Vietnamese, Arabic, French, Korean, Russian, Haitian Creole, German, Hindi, Portuguese, and Italian.

(2) Allowing the subscriber to choose to receive pre-scripted Alert Messages in American Sign Language (ASL) instead of or in addition to their mobile device's subscriber-specified default language setting.

* * * * *

[FR Doc. 2023-27236 Filed 12-14-23; 8:45 am]

BILLING CODE 6712-01-P